DEPARTMENT OF ENERGY

Federal Energy Regulatory Commission

[Docket No. CP15-150-000]

Columbia Gas Transmission, LLC ; Notice of Schedule for Environmental Review of the Proposed Line WB2VA Integrity Project

On April 2, 2015, Columbia Gas Transmission, LLC (Columbia) filed an application in Docket No. CP15-150-000, requesting authorization and a Certificate of Public Convenience and Necessity pursuant to section 7(b) and 7(c) of the Natural Gas Act, to abandon, modify, and install certain natural gas pipeline facilities. The proposed project is known as the Line WB2VA Integrity Project. The purpose of the project is to allow the use of modern inline inspection devices and upgrade pipeline segments in compliance with U.S. Department of Transportation safety standards.

On April 15, 2015, the Federal Energy Regulatory Commission (Commission or FERC) issued its Notice of Application for the project. Among other things, that notice alerted agencies issuing federal authorizations of the requirement to complete all necessary reviews and to reach a final decision on a request for a federal authorization within 90 days of the date of issuance of the Commission staff's Environmental Assessment (EA) for the project. This instant notice identifies the FERC staff's planned schedule for the completion of the EA for the project.

Schedule for Environmental Review

Issuance of EA—January 28, 2016.

90-day Federal Authorization Decision Deadline—April 27, 2016.

If a schedule change becomes necessary, additional notice will be provided so that the relevant agencies are kept informed of the project's progress.

Project Description

The Line WB2VA Integrity Project would include modifications to Columbia's existing facilities at 17 sites in Hardy County, West Virginia, and Shenandoah, Page, Rockingham, and Greene Counties, Virginia. Proposed modifications include installation of pig launchers and receivers; replacement of short sections of existing pipeline, mainline valves, and other appurtenant facilities; and abandonment of two existing 20-inch-diameter pipelines beneath the South Fork of the Shenandoah River that would be replaced with a new 24-inch-diameter pipeline.

Background

On May 14, 2015, we issued a Notice of Intent to Prepare an Environmental Assessment for the Proposed WB2VA Integrity Project and Request for Comments on Environmental Issues (NOI). The NOI was published in the Federal Register and was mailed to 163 interested parties, including federal, state, and local government representatives and agencies; elected officials; affected landowners; environmental and public interest groups; potentially interested Native American tribes; other interested parties; and local libraries and newspapers.

In response to the NOI, the Commission received comments from non-government organizations, and federal and state agencies. The primary environmental issues raised by the commentors include: air quality, steep slopes and slope-prone soils, recreation, public lands, karst topography, threatened and endangered species, wetlands and waterbodies, cumulative impacts, and alternatives.

The U.S. Army Corps of Engineers, West Virginia Department of Natural Resources, and West Virginia Department of Environmental Protection are cooperating agencies for preparation of the EA.

Additional Information

In order to receive notification of the issuance of the EA and to keep track of all formal issuances and submittals, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC Web site (www.ferc.gov). Using the “eLibrary” link, select “General Search” from the menu, enter the selected date range and “Docket Number” excluding the last three digits (i.e., CP15-150), and follow the instructions. For assistance with eLibrary, the helpline can be reached at (866) 208-3676, TTY (202) 502-8659, or at FERCOnlineSupport@ferc.gov. The eLibrary link on the FERC Web site also provides access to the texts of formal documents issued by the Commission, such as orders, notices, and rule makings.

Dated: December 10, 2015.
Nathaniel J. Davis, Sr.,
Deputy Secretary.

[FR Doc. 2015-31609 Filed 12-15-15; 8:45 am]

BILLING CODE 6717-01-P